DEPARTMENT OF THE INTERIOR

National Park Service

Concession Contracts and Permits

AGENCY: National Park Service, Interior.

ACTION: Public notice.

SUMMARY: Pursuant to the terms of existing concession contracts, public notice is hereby given that the National Park Service intends to request a continuation of visitor services for a period not-to-exceed 1 year from the date of contract expiration.

SUPPLEMENTARY INFORMATION: The contracts listed below have been extended to maximum allowable under 36 CFR 51.23. Under the provisions of current concession contracts and pending the completion of the public solicitation of a prospectus for a new concession contract, the National Park Service authorizes continuation of visitor services for a period not-to-exceed 1 year under the terms and conditions of the current contract as amended. The continuation of operations does not affect any rights with respect to selection for award of a new concession contract.

CONCID # | Concessioner name | Park
DEVA001 | Scotty's Castle | Death Valley NP.
DEVA002 | Stovepipe Wells | Death Valley NP.
GOGA008 | Louis' Restaurant | Golden Gate NRA.
KALA001 | Molokai Mule Ride | Kalaupapa NHP.
LAME002 | Lake Mead RV Village | Lake Mead NRA.
LAME003 | Lake Mead Resort | Lake Mead NRA.
LAME005 | Calville Bay Resort | Lake Mead NRA.
LAME006 | Las Vegas Boat Harbor | Lake Mead NRA.
LAME008 | Overton Beach Marina | Lake Mead NRA.
LAME010 | Echo Bay Resort | Lake Mead NRA.
MUWO001 | Aramark Leisure Services | Muir Woods NM.
OLYM001 | Kalaloch Lodge | Olympic NP.
OLYM005 | Crescent West | Olympic NP.
OLYM008 | Sol Duc Hot Springs Resort | Olympic NP.
ROLA003 | Ross Lake Resort | Olympic NP.
WHIS001 | Oak Bottom Marina | Whiskeytown NRA.

EFFECTIVE DATE: January 2, 2004.

FOR FURTHER INFORMATION CONTACT: Cynthia Orlando, Concession Program Manager, National Park Service, Washington, DC 20240, Telephone, 202/513-7156.

Dated: December 24, 2003.
Richard G. Ring,
Associate Director, Administration, Business Practices and Workforce Development.

[FR Doc. 04-410 Filed 1-8-04; 8:45 am]

BILLING CODE 4312-53-M